DEPARTMENT OF LABOR

Employment and Training Administration

Agency Information Collection Activities; Comment Request; Data Collections From Industry-Recognized Apprenticeship Program Accreditors

AGENCY: Employment and Training Administration, Labor.

ACTION: Notice.

SUMMARY: The Department of Labor (DOL), Employment and Training Administration (ETA), is soliciting comments concerning proposed authority to conduct the voluntary information collection request (ICR) titled, “Industry-Recognized Apprenticeship Programs Accrediting Entity Information.” This comment request is part of continuing Departmental efforts to reduce paperwork and respondent burden in accordance with the Paperwork Reduction Act of 1995 (PRA).

DATES: Consideration will be given to all written comments received by November 19, 2018.

ADDRESSES: Comments submitted in response to this notice should be submitted electronically through the Federal eRulemaking Portal at http://www.regulations.gov by selecting Docket ID number ETA-2018-0001 or via postal mail, commercial delivery, or hand delivery. A copy of this ICR with applicable supporting documentation; including a description of the likely respondents, proposed frequency of response, and estimated total burden may be obtained free of charge from http://www.regulations.gov or by contacting Mark Judge by telephone at 202-693-3470 (this is not a toll-free number), or by email at IRAP.PRA@dol.gov. Individuals with hearing or speech impairments may access the telephone number above via TTY by calling the toll-free Federal Information Relay Service at 1-877-889-5627 (TTY/TDD).

Submit written comments about, or requests for a copy of, this ICR by mail or courier to the U.S. Department of Labor, Employment and Training Administration, Office of Apprenticeship, Room C-5321, U.S. Department of Labor, 200 Constitution Avenue NW, Washington, DC 20210; or by email: IRAP.PRA@dol.gov.

Comments submitted in response to this comment request will become a matter of public record and will be summarized and included in the request for Office of Management and Budget (OMB) approval of the information collection request. In addition, comments, regardless of the delivery method, will be posted without change on the http://www.regulations.gov website; consequently, the Department recommends comments not include personal information such as social security number, personal address, telephone number, email address, or confidential business information that they do not want made public. It is the responsibility of the commenter to determine what to include in the public record.

FOR FURTHER INFORMATION CONTACT: Mark Judge by telephone at 202-693-3470 (this is not a toll-free number) or by email at IRAP.PRA@dol.gov.

SUPPLEMENTARY INFORMATION: DOL, as part of its continuing efforts to reduce paperwork and respondent burden, conducts a pre-clearance consultation program to provide the general public and Federal agencies an opportunity to comment on proposed and/or continuing collections of information before submitting them to OMB for final approval. This program helps to ensure requested data can be provided in the desired format, reporting burden (time and financial resources) is minimized, collection instruments are clearly understood, and the impact of collection requirements can be properly assessed.

ETA has requested that OMB approve an Information Collection Request pursuant to the Paperwork Reduction Act. If approved, this request will enable ETA to collect essential data under Training and Employment Notice (TEN) No. 3-18 concerning the operational characteristics of certain industry-recognized apprenticeship programs that are being established under the statutory authority of the Act (located at 29 U.S.C. 50).¹

¹ Please note that the projected duties of program “certifiers” (as referenced in TEN 3-18) in assessing the quality and rigor of industry-recognized apprenticeship programs are the same job functions traditionally performed by accreditation bodies. Accreditation is a statement from an accreditation body—an independent organization that oversees the development of voluntary consensus standards—declaring that another entity offering credentials, education, and/or training within a program (such as an industry-recognized apprenticeship program) has met specified certification standards. Additional information on accreditation bodies can be found at the website of the American National Standards Institute: https://www.standardsportal.org/usa_en/resources/USaccreditation_bodies.aspx. The Department intends to elaborate further upon these accreditation duties in amending 29 CFR part 29.

On June 15, 2017, President Trump issued Executive Order 13801, entitled “Expanding Apprenticeships in America,” which directed the Secretary of Labor (in consultation with the Secretaries of Education and Commerce) to consider “proposing regulations, consistent with applicable law, including 29 U.S.C. 50, that promote the development of apprenticeship programs.” Under section 4(a) of the Executive Order, these accreditors may include trade and industry groups, companies, non-profit organizations, unions, and joint labor-management organizations. Section 4(a) also directs the Department to determine how qualified accreditors may provide recognition to “industry-recognized apprenticeship programs,” and to “establish guidelines or requirements that qualified [accreditors] should or must follow to ensure that [the industry-recognized] apprenticeship programs they recognize meet quality standards.”

The Secretary has determined to move forward with the development of the industry-recognized apprenticeship programs contemplated by the foregoing provisions of the Executive Order. To accomplish this goal, the Department issued an interim informational and guidance document (TEN No., 3-18) on July 27, 2018 titled “Creating Industry-Recognized Apprenticeship Programs to Expand Opportunity in America.” According to the TEN, these new industry-recognized apprenticeship programs will be reviewed and recognized by qualified accrediting entities; the accrediting entities, in turn, may request a determination from the Department concerning their qualifications to act as a accreditor. The Department intends to promulgate a regulation amending 29 CFR part 29; this regulation would, among other things, establish guidelines or requirements that qualified entities must follow to ensure that the industry-recognized programs they accredit meet quality standards.

The TEN provides interim information and guidance to accreditors on the process for obtaining a determination from the Department on whether that entity's standards meet the criteria outlined in TEN No. 3-18. To obtain a favorable determination from the Department, the accrediting entity should, among other things, demonstrate that it has received broad sector-wide input and consensus in the setting of industry-wide quality standards. The accrediting entity should also demonstrate that their program accreditation process ensures that the industry programs will operate in a manner consistent with DOL-identified hallmarks of high-quality apprenticeship programs. To collect the information necessary for the Department to determine whether the entity accrediting these industry-recognized apprenticeship programs has satisfied the foregoing criteria, the Department proposes the development of a form titled “Industry-Recognized Apprenticeship Programs Accrediting Entity Information,” intended for completion by the accrediting entity, that will enable the Department to determine whether that entity's standards meet the criteria outlined in the TEN. An electronic version of this information collection form will be posted on the Department's website, and will be capable of being completed and submitted online.

Under the National Apprenticeship Act of 1937, the Secretary of Labor is charged with the establishment of labor standards designed to safeguard the welfare of apprentices and promote apprenticeship opportunity. Pursuant to this statutory authority, and in furtherance of the policy objectives stated in Executive Order 13801, the Secretary has determined that the immediate establishment of industry-recognized apprenticeship programs is a matter of vital national interest. 44 U.S.C. 3506(c)(2)(A) authorizes this information collection.

This information collection is subject to the PRA. A Federal agency generally cannot conduct or sponsor a collection of information, and the public is generally not required to respond to an information collection, unless OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the addresses section of this notice. Comments must be written to receive consideration, and they will be summarized and included in the request for OMB approval of the final ICR. In order to help ensure appropriate consideration, comments should mention 1205-0NEW.

Submitted comments will also be a matter of public record for this ICR and posted on the internet, without redaction. DOL encourages commenters not to include personally identifiable information, confidential business data, or other sensitive statements/information in any comments. DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: New.

Title of Collection: Data Collections from Industry-Recognized Programs Accreditors.

Form: Industry-Recognized Apprenticeship Programs Accrediting Entity Information.

OMB Control Number: 1205-0NEW.

Affected Public: Individuals/households, state/local/tribal governments, Federal government, private sector (businesses or other for-profits, and, not-for-profit institutions).

Estimated Total Annual Respondents: 308.

Estimated Number of Respondents: 308.

Frequency: Generally, once every five years.

Total Estimated Annual Responses: 308.

Estimated Average Time per Response: 82 minutes.

Estimated Total Annual Burden Hours: 6,980.

Total Estimated Annual Other Cost Burden: $0.

Rosemary Lahasky,
Deputy Assistant Secretary for the Employment and Training Administration.

[FR Doc. 2018-20436 Filed 9-19-18; 8:45 am]

BILLING CODE 4510-FR-P